DEPARTMENT OF THE INTERIOR

Bureau of Land Management

[PO #4820000251]

Notice of Availability of the Approved Resource Management Plan Amendments and Record of Decision for Utility-Scale Solar Energy Development

AGENCY: Bureau of Land Management, Interior

ACTION: Notice of availability.

SUMMARY: The Bureau of Land Management (BLM) announces the availability of a Record of Decision (ROD) for Approved Resource Management Plan (RMP) Amendments that update the public lands management framework to support utility-scale solar energy development and improve protection of important and sensitive resources.

DATES: The BLM Principal Deputy Director and the Department of the Interior Principal Deputy Assistant Secretary for Land and Minerals Management signed the ROD on December 19, 2024, which constitutes the decision of the BLM, as approved by the Department of the Interior, and makes the Approved RMP Amendments effective immediately.

ADDRESSES: The ROD/Approved RMP Amendments are available online at https://eplanning.blm.gov/eplanning-ui/project/2022371/510.

Printed copies of the ROD/Approved RMP Amendments are available for public inspection at the BLM State Offices in Arizona, California, Colorado, Idaho, Montana, Nevada, New Mexico, Oregon, Utah, Washington, and Wyoming or can be provided upon request by contacting the BLM at solar@blm.gov.

A copy of the Protest Resolution Report is available at: https://www.blm.gov/programs/planning-and-nepa/public-participation/protest-resolution-reports.

FOR FURTHER INFORMATION CONTACT: Scott Whitesides, Project Manager, National Renewable Energy Coordination Office, BLM Headquarters, email: solar@blm.gov or telephone: (801) 598-8669. Individuals in the United States who are deaf, deafblind, hard of hearing, or have a speech disability may dial 711 (TTY, TDD, or TeleBraille) to access telecommunications relay services for contacting Mr. Whitesides. Individuals outside the United States should use the relay services offered within their country to make international calls to the point of contact in the United States.

SUPPLEMENTARY INFORMATION: The Approved RMP Amendments change the following existing plans:

• Agua Fria NM RMP (2010)

• Arizona Strip RMP (2008)

• Bradshaw Harquahala RMP (2010)

• Grand Canyon-Parashant NM RMP (2008)

• Ironwood Forest NM RMP (2013)

• Kingman RMP (1995)

• Lake Havasu RMP (2007)

• Las Cienegas RMP (2003)

• Lower Gila North MFP (1983)

• Lower Sonoran RMP (2012)

• Phoenix RMP (1989)

• Safford RMP (1992/1994)

• San Pedro Riparian NCA RMP (2019)

• Sonoran Desert NM RMP (2012)

• Vermilion Cliffs NM RMP (2008)

• Yuma RMP (2010)

• Alturas RMP (2008)

• Bakersfield RMP (2014)

• Bishop RMP (1993, 2016)

• California Coastal NM RMP (2005)

• California Desert Conservation Area Plan (2016)

• Carrizo Plain NM RMP (2010)

• Clear Creek RMP (2014)

• Eagle Lake RMP (2008)

• Eastern San Diego County RMP (2008)

• Headwaters Forest Reserve RMP (2004)

• King Range NCA RMP (2005)

• Northwest California Integrated RMP (2024)

• Santa Rosa and San Jacinto Mountains NM RMP (2004)

• Sierra RMP (2007)

• South Coast RMP (1994)

• Southern Diablo Mountain Range and Central Coast of California RMP (2007)

• Surprise RMP (2008)

• Ukiah RMP (2006)

• Cotoni-Coast Dairies RMP Amendment—Environmental Assessment (2021)

• Browns Canyon NM RMP (2020)

• Canyons of the Ancients NM RMP (2010)

• Colorado River Valley RMP (2015)

• Colorado River Valley Roan Plateau RMP (2016)

• Dominguez-Escalante NCA RMP (2017)

• Eastern Colorado RMP (2024)

• Grand Junction RMP (2015

• Gunnison Gorge NCA RMP (2004)

• Gunnison RMP (1993)

• Kremmling RMP (2015)

• Little Snake RMP (2011)

• McInnis Canyons NCA RMP (2004)

• San Luis RMP (1991)

• Tres Rios RMP (2015)

• Uncompahgre RMP (2020)

• White River RMP (1997)

• Gunnison Sage-Grouse Resource Management Plan Amendment (2024)

• Bennett Hills Timmerman Hills MFP (1980)

• Big Desert MFP (1981)

• Big Lost MFP (1982)

• Bruneau MFP (1983)

• Cassia RMP (1985)

• Challis RMP (1999)

• Coeur d'Alene RMP (2007)

• Cottonwood RMP (2009)

• Craters of the Moon Monument RMP (2007)

• Four Rivers RMP (2023)

• Jarbidge RMP (2015)

• Lemhi RMP (1987)

• Little Lost and Birch Creek MFP (1985)

• Magic MFP (1980)

• Medicine Lodge RMP (1985)

• Monument RMP (1986)

• Morley Nelson Snake River Birds of Prey NCA RMP (2008)

• Owyhee RMP (1999)

• Pocatello RMP (2012)

• Sun Valley MFP (1981)

• Twin Falls MFP (1982)

• Billings RMP (2015)

• Butte RMP (2009)

• Dillon RMP (2006)

• HiLine RMP (2015)

• Lewistown RMP (2021)

• Miles City RMP (2015)

• Missoula RMP (2021)

• Pompeys Pillar NM RMP (2015)

• Upper Missouri River Breaks NM RMP (2008)

• Black Rock Desert-High Rock Canyon NCA RMP (2004)

• Carson City RMP (2001)

• Elko RMP (1987)

• Ely RMP (2008)

• Las Vegas RMP (1998)

• Nevada Test and Training Range RMP (2004)

• Red Rock Canyon NCA RMP (2005)

• Shoshone-Eureka RMP (1986)

• Sloan Canyon NCA RMP (2006)

• Tonopah RMP (1997)

• Wells RMP (1985)

• Winnemucca RMP (2015)

• Carlsbad RMP (1988)

• El Malpais NCA RMP (2001)

• Farmington RMP (2003)

• Kasha-Katuwe Tent Rocks NM RMP (2007)

• Mimbres RMP (1993)

• Prehistoric Trackways NM RMP (2015)

• Rio Puerco RMP (1986)

• Roswell RMP (1997)

• Socorro RMP (2010)

• Taos RMP (2012)

• White Sands RMP (1986)

• Andrews RMP (2005)

• Baker RMP (1989)

• Brothers La Pine RMP (1989)

• Cascade-Siskiyou NM RMP (2008)

• John Day Basin RMP (2015)

• Lakeview RMP (2003)

• Northwestern and Coastal Oregon RMP (2016)

• San Juan Islands NM RMP (2023)

• Southeastern Oregon RMP (2002)

• Southwestern Oregon RMP (2016)

• Spokane District RMP (1987)

• Steens Mountain Cooperative Management and Protection Area RMP (2005)

• Three Rivers RMP (1992)

• Two Rivers RMP (1986)

• Upper Deschutes RMP (2005)

• Upper Klamath Basin and Wood River Wetland RMP (1996)

• West Eugene Wetlands RMP (2015)

• Bears Ears NM—RMPs for the Indian Creek and Shash Jaa Units (2020)

• Beaver Dam Wash NCA RMP (2016)

• Box Elder RMP (1986)

• Cedar Beaver Garfield Antimony RMP (1986)

• Grand Staircase-Escalante NM RMP (2020)

• House Range RMP (1987)

• Isolated Tract Planning Analysis (1985)

• Kanab RMP (2008)

• Kanab-Escalante RMP (2020)

• Moab RMP (2008)

• Monticello RMP (2008)

• Park City MFP (1975)

• Pinyon MFP (1983)

• Pony Express RMP (1990)

• Price RMP (2008)

• Randolph MFP (1980)

• Red Cliffs NCA RMP (2016)

• Richfield RMP (2008)

• St. George RMP (1999)

• Vernal RMP (2008)

• Warm Springs RMP (1987)

• Buffalo RMP (2015)

• Casper RMP (2007)

• Cody RMP (2015)

• Green River RMP (1997)

• Kemmerer RMP (2010)

• Lander RMP (2014)

• Newcastle RMP (2000)

• Pinedale RMP (2008)

• Rawlins RMP (2008)

• Snake River RMP (2004)

• Worland RMP (2015)

The 11-state planning area for this effort includes approximately 162 million acres of public lands administered by the BLM.

The Approved RMP Amendments improve the BLM's management consistency with respect to utility-scale solar energy development, address changes in solar energy technology that have occurred since the BLM's last solar energy planning effort in 2012 (2012 Western Solar Plan), support national renewable energy and climate goals, and incorporate updated information about important resource values. As the BLM seeks to advance its solar energy program, it does so while managing other important land uses. These include recreational use; agricultural use, such as grazing; other energy and mineral development; resource protection, including National Monuments, National Conservation Areas, wilderness areas, wilderness study areas, other specially designated areas, wildlife and big game, water resources, and cultural, historical, and paleontological resources; and the restoration of lands and resources, in all cases where appropriate and consistent with the principles of multiple use and sustained yield, as defined by the Federal Land Policy and Management Act.

The Approved RMP Amendments describe the BLM's approach for implementing utility-scale photovoltaic solar energy development on BLM-administered land. The Approved RMP Amendments exclude approximately 131 million acres of public lands from solar development to protect sensitive resources as described in the exclusion criteria in the ROD. Approximately 31 million acres of public lands are available for solar projects under the Approved RMP Amendments, including approximately 3.8 million acres of designated avoidance lands. Public lands are available if, after accounting for the resource-based exclusions and the exclusion for slopes exceeding 10 percent, they are within 15 miles of an existing or planned transmission line with capacity of at least 69 kilovolts, or they are identified as “previously disturbed” based on criteria described in the ROD. The Approved RMP Amendments also update programmatic design features and environmental evaluation processes and incorporate new information and analysis. The Approved RMP Amendments will improve the solar energy project application process by excluding projects from areas where protection is warranted while maintaining sufficient siting flexibility to account for site-specific resource considerations on a case-by-case basis under subsequent project-specific decisions.

The BLM provided the Proposed RMP Amendments on August 30, 2024, for a 30-day protest period and received 35 valid protests. The BLM Director resolved all protests. Responses to protest issues have been compiled and documented in a Protest Resolution Report (see ADDRESSES). The BLM incorporated minor clarifications in the Approved RMP Amendments in response to protests, but no substantive changes were necessary.

The BLM provided the Proposed RMP Amendments to the Governors of Arizona, California, Colorado, Idaho, Montana, Nevada, New Mexico, Oregon, Utah, Washington, and Wyoming for a 60-day Governor's consistency review. The Governors of California, Idaho, Montana, Nevada, New Mexico, Oregon, Utah, and Wyoming raised concerns regarding the Proposed RMP Amendments, identified inconsistencies with State and local plans, and provided recommendations relating to the BLM's Proposed RMP Amendments. The BLM considered the information provided by the Governors but declined to revise the Approved RMP Amendments, finding that the Approved RMP Amendments appropriately integrate State and local plans to the maximum extent practical, consistent with Federal law. The Governors of California and Utah appealed the BLM's response to the Governors' consistency review to the BLM Director. The BLM Director determined that the Approved RMP Amendments provide for a reasonable balance between the national interest and the State's interest, and notified the Governors that no changes to the Approved RMP Amendments were necessary as a result of the Governor's consistency review.

(Authority: 40 CFR 1506.6 (2022), 43 CFR subpart 1610.)

Nada Wolff Culver,
Principal Deputy Director.

[FR Doc. 2024-30953 Filed 12-26-24; 8:45 am]

BILLING CODE 4331-27-P